DEPARTMENT OF TRANSPORTATION

National Highway Traffic Safety Administration

[Docket Number NHTSA-2007-0051]

Reports, Forms, and Recordkeeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes the collection of information associated with NHTSA's regulations in 49 CFR Part 566 Manufacturer Identification, which require manufacturers of motor vehicles and motor vehicle equipment that is subject to the standards enforced by the agency to identify themselves and their products to NHTSA. The agency intends to seek OMB approval for this information collection.

DATES: Comments must be received on or before March 11, 2008.

FOR FURTHER INFORMATION CONTACT: Mr. David Coleman, Office of Vehicle Safety Compliance, 1200 New Jersey Avenue, SE., Room W43-488, Washington, DC 20590-0001. Telephone: (202) 366-5302 Refer to: OMB Control Number 2127-0043.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected;

(iv) how to minimize the burden of the collection of information on those who are to respond, including the use of appropriate automated, electronic, mechanical, or other technological collection techniques or other forms of information technology (e.g. permitting electronic submission of responses). In compliance with these requirements, NHTSA asks for public comments on the following proposed collection of information:

Title: 49 CFR Part 566, Manufacturer's Identification.

OMB Number: 2127-0043.

Abstract: Under 49 U.S.C. 30118, if a manufacturer of motor vehicles or replacement items of motor vehicle equipment determines the existence of a defect related to motor vehicle safety or a noncompliance with an applicable Federal motor vehicle safety standards (FMVSS) in one of its products, the manufacturer must furnish NHTSA and affected owners with notification of the defect or noncompliance and remedy the defect or noncompliance without charge. NHTSA issued the regulations in 49 CFR Part 566 Manufacturer Identification to permit the agency to identify the responsible manufacturer and send an appropriate inquiry in the event that it learns of a potential safety-related defect or noncompliance in a motor vehicle or motor vehicle equipment item. The regulations require each manufacturer to furnish the agency, with its full name and address, as well as a description of each type of motor vehicle or motor vehicle equipment that it manufactures. The regulations further provide that this information is to be submitted not later than 30 days after the manufacturer begins to manufacture motor vehicles or equipment subject to the FMVSS. The information specified in 49 CFR part 566 need be submitted only on a one-time basis, but must be revised if there are changes in any of the items submitted (as would be the case, for example, if the manufacturer changed its business address or began to manufacture a new type of motor vehicle). The agency accepts these signed Part 566 submissions as electronic attachments, as Adobe Acrobat (PDF) files, contained in e-mails directed to: david.coleman@dot.gov. The agency publishes evidence of its receipt of a manufacturer's submissions on the DOT Internet site at: http://www.nhtsa.dot.gov/cars/rules/manufacture.

Affected Public: All motor vehicle and motor vehicle equipment manufacturers producing motor vehicles or motor vehicle equipment covered by a Federal motor vehicle safety standard and intended for sale in the United States.

Estimated Annual Burden: 25 minutes of one staff member's time for each new U.S. market manufacturer, or for each manufacturer revising information previously submitted to the agency.

Estimated Number of Respondents: 630 annually.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

ADDRESSES: Comments should refer to the docket and notice numbers above and be submitted by any of the following methods:

• Federal eRulemaking Portal: http://www.regulations.gov. Follow the online instructions for submitting comments.

• DOT Internet Site: http://dms.dot.gov. Follow the instructions for submitting comments.

• Mail: Docket Management Facility, U.S. Department of Transportation, 1200 New Jersey Avenue, SE., West Building Ground Floor, Room W12-140, Washington, DC 20590-0001.

• Hand Delivery or Courier: U.S. DOT, West Building Ground Floor, Room W12-140, 1200 New Jersey Avenue, SE., Washington, DC 20590-0001 between 9 a.m. and 5 p.m. EST, Monday through Friday, except Federal holidays.

• Fax: 202-493-2251.

Instructions: Comments must be written in the English language, and be no greater than 15 pages in length, although there is no limit to the length of necessary attachments to the comments. If comments are submitted in hard copy form, please ensure that two copies are provided.

To receive confirmation that your comments were received, enclose a stamped, self-addressed postcard with the comments. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketInfo.dot.gov.

To Read Comments submitted to the Docket: Visit the Docket Management System at the address and times given above.

To read the comments on the Internet, take the following steps:

(1) Go to the Federal Docket Management System (FDMS) Web page http://www.regulations.gov.

(2) At that site, click on “search for dockets.”

(3) Select (http://www.regulations.gov/fdmspublic/component/main.)

(4) From the drop-down menu in the Agency field, select “National Highway Traffic Safety Administration.”

(4) Enter number NHTSA-2007-0051 (the Docket ID).

(5) Click on “submit.”

(6) The response should contain the docket summary information for this docket.

(7) Click on the comments you wish to see.

(8) You may download the comments. These files are imaged documents (i.e. Adobe Acrobat pdf files) and can be “word searched” using a suitable software application. Please note that it is recommended to search the Docket periodically, as new material is added as it becomes available.

Authority: 44 U.S.C. 3506(c); delegation of authority at 49 CFR 1.50 and 501.8(f).

Issued on: January 7, 2008.
Daniel C. Smith,
Associate Administrator for Enforcement.

[FR Doc. E8-296 Filed 1-10-08; 8:45 am]

BILLING CODE 4910-59-P